DEPARTMENT OF ENERGY

Federal Energy Regulatory Commission

[Docket No. CP01-368-000]

Transcontinental Gas Pipe Line Corporation; Notice of Application

May 25, 2001.

Take notice that on May 18, 2001, Transcontinental Gas Pipe Line Corporation (Transco), P.O. Box 1396, Houston, Texas 77251, in Docket No. CP01-368-000 filed an application pursuant to Section 7(b) of the Natural Gas Act (NGA) and the Commission's Rules and Regulations, for permission and approval for Transco to abandon certain pipeline facilities located in offshore and onshore Louisiana, which are part of the Central Louisiana Gathering System, by transfer to Williams Gas Processing-Gulf Coast Company, L.P. (WGP), an affiliate of Transco, all as more fully set forth in the application which is on file with the Commission and open to public inspection. The filing may be viewed on the web at http://www.ferc.fed.us/online/rims.htm (call 202-208-2222 for assistance). WGP is concurrently filing a Petition requesting that the Commission declare the subject facilities exempt gathering pursuant to Section 1(b) of the Natural Gas Act.

Transco states that Commission authorization for abandonment of the subject gathering facilities to WGP is in the public convenience and necessity because the proposed abandonment will facilitate Transco's transition to providing unbundled services by eliminating facilities unnecessary to Transco's redefined role without detriment to those jurisdictional services that Transco provides to its existing customers. Transco states that abandonment will allow WGP to own and manage those facilities which perform a gathering function as a separate, stand-alone company focused on providing gathering services with its resources dedicated to improving operational efficiencies and ensuring market responsiveness for its customer base.

Any questions regarding the application should be directed to Gisela B. Cherches, Senior Attorney, Transcontinental Gas Pipe Line Corporation, P.O. Box 1396, Houston, Texas 77251, call (713) 215-2397.

There are two ways to become involved in the Commission's review of this project. First, any person wishing to obtain legal status by becoming a party to the proceedings for this project should, on or before June 15, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, interventions and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-13756 Filed 5-31-01; 8:45 am]

BILLING CODE 6717-01-M